ENVIRONMENTAL PROTECTION AGENCY

[OAR-2003-0006, FRL-7441-3]

Agency Information Collection Activities: Proposed Collection; Comment Request; Mobile Source Emission Factor On-Highway Recruitment

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Mobile Source Emission Factor On-Highway Recruitment (OMB Control No. 2060-0078; EPA ICR No. 0619.10) expiring 06/30/2003. Before submitting the ICR to OMB for review and approval, EPA is soliciting comments on specific aspects of the proposed information collection as described below. Before submitting the ICR to OMB for review and approval, EPA is soliciting comments on specific aspects of the proposed information collection as described below.

DATES: Comments must be submitted on or before March 25, 2003.

ADDRESSES: Follow the detailed instructions in the SUPPLEMENTARY INFORMATION.

FOR FURTHER INFORMATION CONTACT: Carl Scarbro, Assessment and Standards Division, Office of Transportation and Air Quality, AATC, 1200 Pennsylvania Ave., NW., Washington, DC 20460; telephone number: 734-214-4209; fax number: 734-214-4939; e-mail address: scarbro.carl@epa.gov.

SUPPLEMENTARY INFORMATION: EPA has established a public docket for this ICR under Docket ID number OAR-2003-0006, which is available for public viewing at the Office of Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA and OMB within 60 days of this notice, and according to the following detailed instructions: Submit your comments to EPA online using EDOCKET (our preferred method), by e-mail to a-and-r-docket@epamail.epa.gov, or by mail to: EPA Docket Center, Environmental Protection Agency, Mailcode 6102T, 1200 Pennsylvania Ave., NW., Washington, DC 20460.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov./edocket.

Affected entities: Entities potentially affected by this action are owners of on-highway vehicles.

Title: Mobile Source Emission Factor On-Highway Recruitment (OMB Control No. 2060-0078; EPA ICR No. 0619.10) expiring 06/30/2003.

Abstract: The EPA Emission Inventory Group, through contractors, solicits the general public to voluntarily offer their vehicle for emissions testing. There are two methods used to solicit the general public for participation in Emission Factors Program (EFP):

1. Postal cards are sent to a random selection of vehicle owners using State motor vehicle registration lists; and

2. A random selection of motor vehicle owners, who arrive at State inspection stations on an annual or biennial schedule, are solicited.

The legislative basis for the Emission Factors Program is section 103(a)(1)(2)(3) of the Clean Air Act, which requires the Administrator to “conduct * * * research, investigations, experiments, demonstrations, surveys, and studies relating to the causes, effects, extent, prevention, and control of air pollution” and “conduct investigations and research and make surveys concerning any specific problem of air pollution in cooperation with any air pollution control agency * * *”

EPA uses the data from the EFP to verify predictions of the computer model known as MOBILE, which calculates the contribution of mobile source emissions to ambient air pollution. MOBILE is used by EPA, state and local air pollution agencies, the automotive industry, and other parties that are interested in estimating mobile source emissions. These estimates, when generated by governments are the basis for State Implementation Plans (SIPs), and Reasonable Further Progress (RFP) reports for the attainment status assessments for the National Ambient Air Quality Standards (NAAQS).

Furthermore, the EFP data collected under this ICR will be used to construct a new model to replace MOBILE, the “Multi-scale Motor Vehicle & Equipment Emission System” (MOVES). MOVES will be based on field sample data as opposed to laboratory simulations. This change is due to recommendations made to EPA by the National Research Council, the Office of Management and Budget and is enabled by the availability of suitable technology for the collection of emission and activity data while the vehicles are being used by their owners/operators. An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: Public reporting burden for this collection of information is estimated to average 10 minutes to 2 hours per response, including the time for reviewing instructions, delivering the vehicle for testing, installing or uninstalling field sampling equipment on the vehicle, or in some instance filling out a travel log. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 16, 2003.
Carl A. Scarbro,
Environmental Protection Specialist, Office of Air and Radiation, Office of Transportation and Air Quality, Assessment and Standards Division, Air Toxics Center.

[FR Doc. 03-1625 Filed 1-23-03; 8:45 am]

BILLING CODE 6560-50-P